DEPARTMENT OF TRANSPORTATION

Federal Aviation Administration

Meeting: RTCA Program Management Committee

AGENCY: Federal Aviation Administration (FAA), U.S. Department of Transportation (DOT).

ACTION: Notice of RTCA Program Management Committee Meeting.

SUMMARY: The FAA is issuing this notice to advise the public of a meeting of RTCA Program Management Committee.

DATES: The meeting will be held September 22nd 2016 from 8:30 a.m.-4:30 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a Program Management Committee meeting. The agenda will include the following:

September 22nd

1. WELCOME AND INTRODUCTIONS

2. REVIEW/APPROVE

A. Meeting Summary June 21, 2016

B. Administrative Special Committee TOR Revisions

3. PUBLICATION CONSIDERATION/APPROVAL

A. Final Draft, New Document—Final Phase One, C2 Data Link MOPS and V&V (Terrestrial), prepared by SC-228

4. INTEGRATION and COORDINATION COMMITTEE (ICC)

A. Word Definitions/Usage—Update

B. Cross Cutting Committee (CCC) Process Recommendations—Discussion

5. PAST ACTION ITEM REVIEW

A. SC-214 participation with SC-223 Internet Protocol Suites Activity—Update

B. Ad-hoc to draft words covering Cyber Security Guidelines—Update

C. Global Aeronautical Distress and Safety System (GADSS)—Presentation

D. Updating References to RTCA Documents Recommendations—Update

6. DISCUSSION

A. SC-225—Rechargeable Lithium Batteries and Battery Systems—Discussion—Update on DO-311 Revision

B. SC-223—Internal Protocol Suite (IPS) and AeroMACS—Discussion—Revised TOR Update

C. SC-228—Minimum Performance Standards for Unmanned Aircraft Systems—Discussion—Revised TOR Update

D. NAC—Status Update

E. TOC—Status Update

F. DAC—Status Update

G. FAA Actions Taken on Previously Published Documents—Report

H. Special Committees—Chairmen's Reports and Active Inter-Special Committee Requirements Agreements (ISRA)—Review

I. European/EUROCAE Coordination—Status Update

7. OTHER BUSINESS

8. SCHEDULE for COMMITTEE DELIVERABLES and NEXT MEETING DATE

9. NEW ACTION ITEM SUMMARY

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 22, 2016.
Mohannad Dawoud,
Management & Program Analyst, Partnership Contracts Branch, ANG-A17, NextGen, Procurement Services Division, Federal Aviation Administration.

[FR Doc. 2016-20373 Filed 8-24-16; 8:45 am]

BILLING CODE 4910-13-P